DEPARTMENT OF HEALTH AND HUMAN SERVICES

Office of the Secretary

Notice of Designation of Scarce Materials or Threatened Materials Subject to COVID-19 Hoarding Prevention Measures; Change in Information Contact, Removal of Chloroquine Phosphate and Hydroxychloroquine HCl; Correction

AGENCY: Office of the Secretary (OS), DHHS.

ACTION: Notice; correction.

SUMMARY: This document updates the March 30, 2020, Federal Register Notice entitled “Notice of Designation of Scarce Materials or Threatened Materials Subject to COVID-19 Hoarding Prevention Measures,” by replacing the named contact and updating the “Notice of Designation of Scarce Materials or Threatened Materials” section.

FOR FURTHER INFORMATION CONTACT: Paige Ezernack, Office of the Assistant Secretary for Preparedness and Response, Office of Strategy, Policy, Planning, and Requirements, Suite 5440—O'Neill House Office Building, 200 C Street SW, Washington, DC 20201, (202) 260-0365.

SUPPLEMENTARY INFORMATION:

I. Background

In FR Doc. 2020-06641 of March 30, 2020 (85 FR 17592-17593), the contact for more information is now aspr.dpa@hhs.gov. Chloroquine phosphate and hydroxychloroquine HCl are no longer listed as scarce or threatened materials following the withdrawal of the FDA emergency use authorizations for these drugs on June 15, 2020.

II. Correction of Errors

In FR Doc. 2020-06641 of March 30, 2020 (85 FR 17592-17593), make the following corrections:

On page 17592, first full column, in FR Doc. 2020-06641, Further Information section, change Bryan Shuy: 202-703-8610; bryan.shuy@hhs.gov (mail to: Bryan.Shuy@hhs.gov) to the ASPR DPA Office: 202-838-3420; aspr.dpa@hhs.gov.

On page 17593, first column, in FR Doc. 2020-06641, Notice of Designation of Scarce Materials or Threatened Materials, remove “Drug product with active ingredient chloroquine phosphate or hydroxychloroquine HCl.”

Dated: June 30, 2020.
Wilma Robinson,
Deputy Executive Secretary, Department of Health and Human Services.

[FR Doc. 2020-14525 Filed 7-6-20; 8:45 am]

BILLING CODE 4150-37-P